DEPARTMENT OF HEALTH AND HUMAN SERVICES

Centers for Disease Control and Prevention

Workshop in Vaccine Communication

The National Vaccine Program Office (NVPO), of the Centers for Disease Control and Prevention (CDC), announces the following meeting.

In accordance with section 10(a)(2) of the Federal Advisory Committee Act (Pub. L. 92-463), the Centers for Disease Control and Prevention (CDC) announces the following meeting.

Name: Workshop on Vaccine Communication.

Times and Dates: 8:30 a.m.—6 p.m., October 5, 2000. 8:30 a.m.—2 p.m., October 6, 2000.

Place: Key Bridge Marriott Hotel, Arlington, Virginia.

Status: Open to the public, limited only by the space available. The meeting room accommodates approximately 150 people.

Purpose: The National Vaccine Advisory Committee, the Inter-Agency Vaccine Communications Group and the National Vaccine Program Office will sponsor a Workshop on Vaccine Communication to provide a forum for identifying and discussing more effective approaches to vaccine benefit and risk communication.

This Workshop should be of interest to people working in the vaccine and immunization arena including health communication and public affairs specialists, public and private sector health care providers, parent and consumer groups, vaccine manufacturers, and immunization program managers and directors.

Matters to be Discussed: The Workshop will focus on (1) identifying key issues, forces and trends that are influencing and shaping perceptions about vaccines; (2) determining how to establish more meaningful discussions regarding issues of concern; (3) defining options for establishing more effective mechanisms for communicating vaccine benefits and risks; and (4) examining and discussing the effectiveness, purpose, methods, and timing of current vaccine communications.

Agenda items are subject to change as priorities dictate.

Contact Person for More Information: Lena Kombo, NVPO, CDC, 1600 Clifton Road, NE, M/S D66, Atlanta, Georgia 30333, telephone 404/687-6672. You may also visit the NVPO website for additional information: www.cdc.gov/od/nvpo/calendar. The Director, Management Analysis and Services Office, has been delegated the authority to sign Federal Register Notices pertaining to announcements of meetings and other committee management activities, for both the Centers for Disease Control and Prevention and the Agency for Toxic Substances and Disease Registry.

Dated: August 31, 2000.
John Burckhardt,
Acting Director, Management Analysis and Services Office, Centers for Disease Control and Prevention.

[FR Doc. 00-22902 Filed 9-6-00; 8:45 am]

BILLING CODE 4163-18-P